DEPARTMENT OF THE INTERIOR

Bureau of Land Management

[OR-110-6320-NW; HAG01-0063]

Notice of Temporary Restriction on Public Lands; Jackson, County, Oregon

AGENCY: Bureau of Land Management, Medford District, Ashland Field Office, Oregon.

ACTION: A temporary restriction of the use of paint ball equipment on public lands administered by the Bureau of Land Management (BLM), Ashland Field Office, Medford District, Oregon.

SUMMARY: The BLM is temporarily restricting the use of paint ball equipment on certain public lands in Jackson County.

DATES: This restriction will take effect upon the published date of this notice. The closure will continue until rescinded by BLM, to allow time for natural restoration to be completed.

FOR FURTHER INFORMATION CONTACT: Field Office Manager, Ashland Field Office, Medford District, 3040 Biddle Road, Medford, Oregon 97504, telephone (541) 618-2310.

Discussion of the Rules: The public lands affected by this closure are all lands administered by the BLM in NE¼SW¼, section 23 of Township 37 South, Range 1 East, Willamette Meridian, Jackson County, Oregon. This area is located on the west side of Antelope Creek, within the riparian reserve zone. Antelope Creek is an anadromous fish stream and is managed in accordance with the Aquatic Conservation Strategy of the Northwest Forest Plan. This area has been used for unregulated paint ball activity, unauthorized cutting of vegetation, trampling of riparian vegetation and crossing of the stream by off-road vehicles. This use is causing soil erosion into streams, loss of vegetation and disturbance to anadromous fish populations. In addition, vehicles are being used for transporting household and commercial trash that is being illegally dumped, causing further degradation of the soil and water conditions. In order to protect the natural resources, and follow the guidance of the Northwest Forest Plan, paint ball and off-road activity must stop.

Closure and restriction signs will be posted at main entry points. Maps of the closure area may be obtained from the Medford District Office.

Prohibited Act: Under 43 CFR 8364.1, the Bureau of Land Management will enforce the following rule within the Antelope Creek closure and restriction area:

a. You must not use paint ball equipment.

b. You must not engage in paint ball activity.

c. You must not drive off established roads.

Exemptions: Persons who are exempt from these rules include any federal, state or local officer or employee in the scope of their duties, members of any organized rescue or fire-fighting force in performance of an official duty, and any person authorized in writing by the Bureau of Land Management.

Penalties: The authority for this closure is found under section 303(a) of the Federal Land Policy and Management Act of 1976 (43 U.S.C. 1733(a)) and 43 CFR 8360.0-7. Any person who violates this closure may be tried before a United States Magistrate and fined no more than $1,000 or imprisoned for no more than 12 months, or both. Such violations may also be subject to the enhanced fines provided for by 18 U.S.C. 3571.

Dated: January 2, 2001.
Rich Drehobl,
Field Office Manager, Ashland Field Office.

[FR Doc. 01-1728 Filed 1-19-01; 8:45 am]

BILLING CODE 4310-33-M